DEPARTMENT OF TRANSPORTATION

Federal Railroad Administration

[Docket Number FRA-2020-0068]

Petition for Waiver of Compliance

Under part 211 of title 49 of the Code of Federal Regulations (CFR), this document provides the public notice that on August 14, 2020, the Association of American Railroads (AAR) and the American Short Line and Regional Railroad Association (ASLRRA) (Petitioners), on behalf of themselves and their member railroads, petitioned the Federal Railroad Administration (FRA) for a waiver of compliance from certain provisions of the Federal railroad safety regulations contained at 49 CFR part 236, Rules, Standards, and Instructions Governing the Installation, Inspection, Maintenance, and Repair of Signal and Train Control Systems, Devices, and Appliances. FRA assigned the petition Docket Number FRA-2020-0068.

Specifically, Petitioners request relief from 49 CFR 236.1021, which governs the Request for Amendment (RFA) process when material modifications are made to a mixed-certification Interoperable Train Control Positive Train Control (PTC) system or its accompanying Safety Plan (PTCSP). Petitioners state that the RFA process when modifications are made to a PTCSP is a time consuming and significant undertaking for both FRA and railroad staff, involving submission of a voluminous amount of information and likely a lengthy review and approval process. Petitioners further state that frequently occurring modifications to account for regular PTC technology updates of the FRA-certified PTC system are necessary to allow for the continued successful and safe operation of the PTC system.

Petitioners assert that approval of this waiver request would eliminate undue paperwork, administrative burdens, and delays to modifications that are intended to improve the functioning of existing PTC systems. Petitioners also contend that approval would result in significant resource and cost savings to both FRA and the railroads.

A copy of the petition, as well as any written communications concerning the petition, is available for review online at http://www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by October 19, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also http://www.regulations.gov/#!privacyNotice for the privacy notice of regulations.gov.

Issued in Washington, DC.
John Karl Alexy,
Associate Administrator for Railroad Safety, Chief Safety Officer.

[FR Doc. 2020-19397 Filed 9-1-20; 8:45 am]

BILLING CODE 4910-06-P